DEPARTMENT OF ENERGY

Federal Energy Regulatory Commission

Combined Notice of Filings #1

Take notice that the Commission received the following electric rate filings:

Docket Numbers: ER10-2310-001; ER10-2314-001; ER10-2311-001; ER10-2312-001; ER10-2313-001; ER10-2315-001; ER10-2316-001; ER10-2318-001; ER10-2321-001.

Applicants: Covanta Maine, LLC, Covanta Essex Company, Covanta Plymouth Renewable Energy Limited, Covanta Delaware Valley, L.P., Covanta Union, Inc., Covanta Hempstead Company, Covanta Niagara, L.P., Covanta Power, LLC, Covanta Energy Marketing LLC.

Description: Updated Market Power Analysis of the Covanta MBR Entities.

Filed Date: 06/23/2011.

Accession Number: 20110623-5112.

Comment Date: 5 p.m. Eastern Time on Monday, August 22, 2011.

Docket Numbers: ER10-2960-001.

Applicants: Astoria Generating Company, L.P.

Description: Astoria Generating Company, L.P. submits their updated market power analysis in support of its continued market-based rate authorization.

Filed Date: 06/23/2011.

Accession Number: 20110623-5163.

Comment Date: 5 p.m. Eastern Time on Monday, August 22, 2011.

Docket Numbers: ER10-3069-001; ER10-3070-001.

Applicants: Alcoa Power Generating Inc., Alcoa Power Marketing LLC.

Description: Updated Market Power Analysis of the Alcoa Companies.

Filed Date: 06/23/2011.

Accession Number: 20110623-5128.

Comment Date: 5 p.m. Eastern Time on Monday, August 22, 2011.

Docket Numbers: ER11-3409-001.

Applicants: Florida Power & Light Company.

Description: Florida Power & Light Company submits tariff filing per 35: FPL Revisions to Attachments H-A and H-B Sections of the OATT Compliance Filing to be effective 5/15/2011.

Filed Date: 06/23/2011.

Accession Number: 20110623-5092.

Comment Date: 5 p.m. Eastern Time on Thursday, July 14, 2011.

Docket Numbers: ER11-3847-001.

Applicants: Public Service Company of New Mexico.

Description: Public Service Company of New Mexico submits tariff filing per 35.17(b): Re-submission of First Revised Service Agreement 317 to be effective 6/1/2011.

Filed Date: 06/22/2011.

Accession Number: 20110622-5003.

Comment Date: 5 p.m. Eastern Time on Wednesday, July 13, 2011.

Docket Numbers: ER11-3865-000.

Applicants: PacifiCorp.

Description: PacifiCorp submits tariff filing per 35.13(a)(2)(iii: Owners Agmt for Operation of Pacific AC Intertie and CA-OR Transmission Project to be effective 1/1/2012.

Filed Date: 06/23/2011.

Accession Number: 20110623-5080.

Comment Date: 5 p.m. Eastern Time on Thursday, July 14, 2011.

Docket Numbers: ER11-3866-000.

Applicants: Lake Road Generating Company, L.P.

Description: Lake Road Generating Company, L.P. submits tariff filing per 35.37: Revisions to Market-Based Rate Tariff to be effective 6/24/2011.

Filed Date: 06/23/2011.

Accession Number: 20110623-5081.

Comment Date: 5 p.m. Eastern Time on Thursday, July 14, 2011.

Docket Numbers: ER11-3867-000.

Applicants: MASSPOWER.

Description: MASSPOWER submits tariff filing per 35.37: Revisions to Market-Based Rate Tariff to be effective 6/24/2011.

Filed Date: 06/23/2011.

Accession Number: 20110623-5082.

Comment Date: 5 p.m. Eastern Time on Thursday, July 14, 2011.

Docket Numbers: ER11-3868-000.

Applicants: Midwest Independent Transmission System Operator, Inc.

Description: Midwest Independent Transmission System Operator, Inc. submits tariff filing per 35.13(a)(2)(iii: NSP-WAPA Letter Agreement to be effective 6/24/2011.

Filed Date: 06/23/2011.

Accession Number: 20110623-5088.

Comment Date: 5 p.m. Eastern Time on Thursday, July 14, 2011.

Docket Numbers: ER11-3869-000.

Applicants: Southern California Edison Company.

Description: Southern California Edison Company submits tariff filing per 35.13(a)(2)(iii: LGIA Amendment CPV Sentinel Project to be effective 6/22/2011.

Filed Date: 06/23/2011.

Accession Number: 20110623-5090.

Comment Date: 5 p.m. Eastern Time on Thursday, July 14, 2011.

Docket Numbers: ER11-3870-000.

Applicants: Public Service Company of Colorado.

Description: Public Service Company of Colorado submits tariff filing per 35.13(a)(2)(iii: 2011-6-23_TSGT_FG_SS_COM_Agmt_318-PSCo to be effective 5/24/2011.

Filed Date: 06/23/2011.

Accession Number: 20110623-5109.

Comment Date: 5 p.m. Eastern Time on Thursday, July 14, 2011.

Docket Numbers: ER11-3871-000.

Applicants: PJM Interconnection, LLC.

Description: PJM Interconnection, LLC. submits tariff filing per 35.13(a)(2)(iii: Queue No. W4-075; Original Service Agreement No. 2948 to be effective 5/26/2011.

Filed Date: 06/23/2011.

Accession Number: 20110623-5144.

Comment Date: 5 p.m. Eastern Time on Thursday, July 14, 2011.

Docket Numbers: ER11-3872-000.

Applicants: Stony Creek Energy LLC.

Description: Stony Creek Energy LLC submits tariff filing per 35.12: Application for Market-Based Rate Authorizations and Related Waivers & Approvals to be effective 8/23/2011.

Filed Date: 06/23/2011.

Accession Number: 20110623-5145.

Comment Date: 5 p.m. Eastern Time on Thursday, July 14, 2011.

Docket Numbers: ER11-3873-000.

Applicants: California Independent System Operator Corporation.

Description: California Independent System Operator Corporation submits tariff filing per 35.13(a)(2)(iii: 2011-06-23 CAISO CRR Amendment to be effective 8/22/2011.

Filed Date: 06/23/2011.

Accession Number: 20110623-5147.

Comment Date: 5 p.m. Eastern Time on Thursday, July 14, 2011.

Docket Numbers: ER11-3874-000.

Applicants: PJM Interconnection, LLC.

Description: PJM Interconnection, LLC submits tariff filing per 35.13(a)(2)(iii: Queue No. W2-059; Original Service Agreement No. 2937 to be effective 5/25/2011.

Filed Date: 06/23/2011.

Accession Number: 20110623-5148.

Comment Date: 5 p.m. Eastern Time on Thursday, July 14, 2011.

Docket Numbers: ER11-3875-000.

Applicants: Southern California Edison Company.

Description: Southern California Edison Company cancels Letter Agreement with Abengoa Solar.

Filed Date: 06/24/2011.

Accession Number: 20110624-5012.

Comment Date: 5 p.m. Eastern Time on Friday, July 15, 2011.

Take notice that the Commission received the following public utility holding company filings:

Docket Numbers: PH11-15-000.

Applicants: SteelRiver Infrastructure Partners LP.

Description: Form 65-A of SteelRiver Infrastructure Partners LP.

Filed Date: 06/23/2011.

Accession Number: 20110623-5168.

Comment Date: 5 p.m. Eastern Time on Thursday, July 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: June 24, 2011.
Nathaniel J. Davis, Sr.,
Deputy Secretary.

[FR Doc. 2011-16695 Filed 7-1-11; 8:45 am]

BILLING CODE 6717-01-P